DEPARTMENT OF JUSTICE

Notice of Lodging of First Modification To Consent Decree Under the Clean Air Act

Under 28 CFR 50.7, notice is hereby given that on February 7, 2008, a First Modification (“First Modification”) to the November 2005 First Revised Consent Decree in the case of United States, et al. v. Marathon Ashland Petroleum, LLC, Civil Action No. 01-40119 (PVG), was lodged with the United States District Court for the Eastern District of Michigan.

Under the November 2005 First Revised Consent Decree, Marathon Ashland Petroleum (“MAP”) (presently known as Marathon Petroleum Company) agreed to continue to implement pollution control provisions originally found in a Consent Decree entered in August of 2001, but the parties replaced some of the original control technologies that proved ineffective or potentially unsafe with alternative, proven technologies. The parties also extended some compliance deadlines while accelerating others, incorporated some new final emissions limits, and modified some provisions relating to reporting, recordkeeping, modification, and termination. MAP still is obligated to comply with the November 2005 First Revised Consent Decree, but under the First Modification, the parties eliminate provisions related to Plantwide Applicability Limits (“PALs”) (which were unique to the Marathon decree) and add provisions (which are found in other refinery consent decrees) relating to prohibitions on emissions credit generation. In addition, the First Modification extends and accelerates certain deadlines with the net effect of achieving greater emissions reductions. In the First Modification, the United States is joined by the State of Louisiana and the State of Minnesota.

The Department of Justice will receive for a period of thirty (30) days from the date of this publication comments relating to the First Modification. Comments should be addressed to the Assistant Attorney General, Environment and Natural Resources Division, and either e-mailed to pubcomment-ees.enrd@usdoj.gov or mailed to P.O. Box 7611, U.S. Department of Justice, Washington, DC 20044-7611, and should refer to United States, et al. v. Marathon Ashland Petroleum, LLC, D.J. Ref. No. 90-5-2-1-07247.

The First Modification may be examined at the Office of the United States Attorney, 211 W. Fort St., Suite 2300, Detroit, Michigan 48226, and at U.S. EPA Region 5, 77 W. Jackson St., Chicago, IL 60604. During the public comment period, the First Modification may also be examined on the following Department of Justice Web site: http://www.usdoj.gov/enrd/Consent_Decrees.html. A copy of the First Modification may also be obtained by mail from the Consent Decree Library, P.O. Box 7611, U.S. Department of Justice, Washington, DC 20044-7611, or by faxing or e-mailing a request to Tonia Fleetwood (tonia.fleetwood@usdoj.gov), fax number (202) 514-0097, phone confirmation number (202) 514-1547. In requesting a copy from the Consent Decree Library, please enclose a check in the amount of $5.75 (25 cents per page reproduction cost) payable to the U.S. Treasury, or, if by e-mail or fax, forward a check in that amount to the Consent Decree Library at the stated address.

Robert D. Brook,
Assistant Section Chief, Environmental Enforcement Section, Environment and Natural Resources Division.

[FR Doc. E8-2639 Filed 2-12-08; 8:45 am]

BILLING CODE 4410-15-P